DEPARTMENT OF DEFENSE

Defense Logistics Agency

Privacy Act of 1974; Systems of Records

AGENCY: Defense Logistics Agency, DOD.

ACTION: Notice to alter a system of records.

SUMMARY: The Defense Logistics Agency proposes to alter a system of records notice in its inventory of record systems subject to the Privacy Act of 1974 (5 U.S.C. 552a), as amended. The alteration consists of consolidating two systems of records notices (S253.40 DLA-G, Patent Infringement, into S100.60 GC, Claims and Litigation, other than Contractual), and adding five routine uses to the newly consolidated system of records.

DATES: This action will be effective without further notice on February 22, 2000, unless comments are received that would result in a contrary determination.

ADDRESSES: Send comments to the Privacy Act Officer, Headquarters, Defense Logistics Agency, ATTN: CAAR, 8725 John J. Kingman Road, Suite 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on January 5, 2000, to the House Committee on Government Reform, the Senate Committee on Governmental Affairs, and the Office of Management and Budget (OMB) pursuant to paragraph 4c of Appendix I to OMB Circular No. A-130, “Federal Agency Responsibilities for Maintaining Records About Individuals” dated February 8, 1996 (February 20, 1996, 61 FR 6427).

Dated: January 13, 2000.
L.M. Bynum,
Alternate OSD Federal Register Liaison Officer, Department of Defense.

DELETION

S253.40 DLA-G

System name:

Patent Infringement (February 22, 1993, 58 FR 10854).

Reason: This system of records is being consolidated into S100.60 GC, Claims and Litigation.

ALTERATION

S252.50 DLA-G

System name:

Claims and Litigation, other than Contractual (February 22, 1993, 58 FR 10854).

Changes:

System identifier:

Delete entry and replace with “S100.60 GC.”

System name:

Delete entry and replace with “Claims and Litigation”.

* * * * *

Categories of individuals covered by the system:

Delete entry and replace with “Individuals or entities who have filed claims or litigation against DLA or against whom DLA has initiated such actions. The system may also include claims and litigation filed against or on behalf of other agencies that are serviced by or receive legal support from DLA.”

Categories of records in the system:

Delete entry and replace with “The system contains name, home or business address, telephone numbers, Social Security Number, details of the claim or litigation, and settlement, resolution, or disposition documents.”

Authority for maintenance of the system:

Delete entry and replace with “5 U.S.C. 301, Departmental Regulations; 10 U.S.C. 133, Under Secretary of Defense for Acquisition and Technology; 10 U.S.C. Chapter 163, Military Claims; 10 U.S.C. 2386, Copyrights, Patents, Designs; 28 U.S.C. 514, Pending Claims; 28 U.S.C. 1498, Patents and Copyrights; 31 U.S.C. Chapter 37, Claims; 35 U.S.C., Chap. 28, Patent Infringement; and E.O. 9397 (SSN).”

Purpose(s):

Delete entry and replace with ‘The records are used to evaluate, adjudicate, defend, prosecute, or settle claims or lawsuits.’

Routine uses of records maintained in the system, including categories of users and the purposes of such uses:

Delete the entire sentence beginning with “Information is used” through “settlement of claims” and replace with five new routine uses as follows: “To federal and local agencies authorized to investigate, audit, act on, negotiate, adjudicate, or settle claims or issues arising from litigation.

To federal agencies or other third parties who have or are expected to have information to verify or refute the claim at issue.

To the Internal Revenue Service for address verification or for matters under their jurisdiction.

To Federal and local government agencies or other parties involved in approving, licensing, auditing, or otherwise having an identified interest in intellectual property issues.

To Defense contractors that have an identified interest in the intellectual property at issue.”

* * * * *

Retention and disposal:

Delete entry and replace with “Claim records are destroyed 6 years and 3 months after final settlement; however, claims for which the government’s right to collect was terminated under 4 CFR part 104 are destroyed 10 years and 3 months after the year in which the government's right to collect first accrued.

Litigation files are destroyed 6 years after case closing except that patent infringement litigation files are destroyed after 26 year and copyright infringement files are destroyed after 56 years.”

* * * * *

Record source categories:

Delete entry and replace with “Claimants, litigants, investigators, and through legal discovery under the Federal Rules of Civil Procedure.”

* * * * *

S100.60 GC

System name:

Claims and Litigation.

System location:

Office of the General Counsel, Headquarters Defense Logistics Agency, ATTN: GC, 8725 John J. Kingman Road, Suite 2533, Fort Belvoir, VA 22060-6221, and the offices of counsel of the Defense Logistics Agency Primary Level Field Activities (DLA PLFAs). Official mailing addresses are published as an appendix to DLA's compilation of systems of records notices.

Categories of individuals covered by the system:

Individuals or entities who have filed claims or litigation against DLA or against whom DLA has initiated such actions. The system may also include claims and litigation filed against or on behalf of other agencies that are serviced by or receive legal support from DLA.

Categories of records in the system:

The system contains name, home or business address, telephone numbers, Social Security Number, details of the claim or litigation, and settlement, resolution, or disposition documents.

Authority for maintenance of the system:

5 U.S.C. 301, Departmental Regulations; 10 U.S.C. 133, Under Secretary of Defense for Acquisition and Technology; 10 U.S.C. Chapter 163, Military Claims; 10 U.S.C. 2386, Copyrights, Patents, Designs; 28 U.S.C. 514, Pending Claims; 28 U.S.C. 1498, Patents and Copyrights; 31 U.S.C. Chapter 37, Claims; 35 U.S.C., Chap. 28, Patent Infringement; and E.O. 9397 (SSN).

Purpose(s):

The records are used to evaluate, adjudicate, defend, prosecute, or settle claims or lawsuits.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To federal and local agencies authorized to investigate, audit, act on, negotiate, adjudicate, or settle claims or issues arising from litigation.

To federal agencies or other third parties who have or are expected to have information to verify or refute the claim at issue.

To the Internal Revenue Service for address verification or for matters under their jurisdiction.

To Federal and local government agencies or other parties involved in approving, licensing, auditing, or otherwise having an identified interest in intellectual property issues.

To Defense contractors that have an identified interest in the intellectual property at issue.

The “Blanket Routine Uses” set forth at the beginning of DLA's compilation of systems of records notices apply to this system.

Policies and practices for storing, retrieving, accessing, retaining, and disposing of records in the system:

Storage:

Maintained in combination of paper and automated files.

Retrievability:

Records are retrieved by name or Social Security Number.

Safeguards:

Records are maintained in areas accessible only to DLA personnel who must use the records to perform their duties. The computer files are password protected with access restricted to authorized users. Records are secured in locked or guarded buildings, locked offices, or locked cabinets during nonduty hours.

Retention and disposal:

Claim records are destroyed 6 years and 3 months after final settlement; however, claims for which the government's right to collect was terminated under 4 CFR part 104 are destroyed 10 years and 3 months after the year in which the government's right to collect first accrued. Litigation files are destroyed 6 years after case closing except that patent infringement litigation files are destroyed after 26 year and copyright infringement files are destroyed after 56 years.

System manager(s) and address:

Office of General Counsel, Headquarters, Defense Logistics Agency, 8725 John J. Kingman Road, Suite 2533, Fort Belvoir, VA 22060-6221.

Notification procedure:

Individuals seeking to determine whether information about themselves is contained in this system should address written inquiries to the Privacy Act Officer, Headquarters, Defense Logistics Agency, ATTN: CAAR, 8725 John J. Kingman Road, Suite 2533, Fort Belvoir, VA 22060-6221. Official mailing addresses are published as an appendix to DLA's compilation of systems of records notices.

Individuals must provide name of litigant, year of incident, and should contain court case number in order to ensure proper retrieval in those situations where a single litigant has more than one case with the Agency.

Record access procedures:

Individuals seeking access to information about themselves contained in this system should address written inquiries to the Privacy Act Officer, Headquarters, Defense Logistics Agency, ATTN: CAAR, 8725 John J. Kingman Road, Suite 2533, Fort Belvoir, VA 22060-6221, and Privacy Act offices of the DLA PLFAs. Official mailing addresses are published as an appendix to DLA's compilation of systems of records notices.

Written request for information should contain the full name, current address and telephone number of the individual.

Contesting record procedures:

The DLA rules for accessing records, for contesting contents and appealing initial agency determinations are contained in DLA Regulation 5400.21, 32 CFR part 323, or may be obtained from the Privacy Act Officer, Headquarters, Defense Logistics Agency, ATTN: CAAR, 8725 John J. Kingman Road, Suite 2533, Fort Belvoir, VA 22060-6221.

Record source categories:

Claimants, litigants, investigators, and through legal discovery under the Federal Rules of Civil Procedure.

Exemptions claimed for the system:

None.

[FR Doc. 00-1317 Filed 1-19-00; 8:45 am]

BILLING CODE 5001-10-F